DEPARTMENT OF TRANSPORTATION

Pipeline and Hazardous Materials Safety Administration

[Docket No. PHMSA-2019-0224; Notice No. 2022-04]

Hazardous Materials: Notice of Public Meetings in 2022 for International Standards on the Transport of Dangerous Goods

AGENCY: Pipeline and Hazardous Materials Safety Administration (PHMSA), Office of Hazardous Materials Safety, Department of Transportation (DOT).

ACTION: Notice of 2022 public meetings.

SUMMARY: This notice announces that PHMSA's Office of Hazardous Materials Safety will host three public meetings during 2022 in advance of certain international meetings. The first meeting will be held in preparation of the 60th session of the United Nations Sub-Committee of Experts on the Transport of Dangerous Goods (UNSCOE TDG) scheduled for June 27 to July 6, 2022, in Geneva, Switzerland. The second meeting will be held in preparation of the International Civil Aviation Organization's (ICAO) Dangerous Goods Panel (DGP) Working Group 22 (WG/22) tentatively scheduled for November 21-25, in Montreal, Canada. The third meeting will be held in preparation of the 61st session of the UNSCOE TDG scheduled for November 28 to December 6, 2022, in Geneva, Switzerland. For each of these meetings, PHMSA will solicit public input on current proposals.

ADDRESSES: Each public meeting will take place virtually approximately two weeks preceding the international meeting. If the guidelines concerning the global health emergency change, PHMSA may hold the meeting(s), concurrent with the virtual sessions, at DOT Headquarters, West Building, 1200 New Jersey Avenue SE, Washington, DC 20590-0001. Specific information for each meeting will be posted when available on the PHMSA website at https://www.phmsa.dot.gov/international-program/international-program-overview under “Upcoming Events.” This information will include the public meeting date, time, conference call-in number, and details for advanced registration.

FOR FURTHER INFORMATION CONTACT: Steven Webb or Aaron Wiener, PHMSA, U.S. Department of Transportation. Telephone: (202) 366-8553.

SUPPLEMENTARY INFORMATION: The purpose of PHMSA's public meetings held in advance of certain international meetings is to allow the public to give input on the current proposals being considered by the international standards setting bodies.

The 60th and 61st sessions of the UNSCOE TDG will represent the third and fourth meetings scheduled for the 2021-2022 biennium. The UNSCOE TDG will consider proposals for the 23rd Revised Edition of the United Nations Recommendations on the Transport of Dangerous Goods: Model Regulations (Model Regulations), which may be implemented into relevant domestic, regional, and international regulations starting January 1, 2025. Copies of working documents, informal documents, the agenda, and the post-meeting final report may be obtained from the United Nations Transport Division's website at: http://www.unece.org/trans/danger/danger.html.

The ICAO WG/22 meeting will represent the first meeting of the 2022-2023 biennium. The ICAO DGP will consider proposals for the 2024-2025 edition of the Technical Instructions for the Safe Transport of Dangerous Goods by Air (Doc 9284). Copies of working papers, information papers, the agenda, and the post-meeting final report may be obtained from the ICAO DGP website at: https://www.icao.int/safety/DangerousGoods/Pages/DGPMeetings.aspx.

Signed in Washington, DC, on February 25, 2022.
William S. Schoonover,
Associate Administrator, Hazardous Materials Safety, Pipeline and Hazardous Materials Safety Administration.

[FR Doc. 2022-04435 Filed 3-2-22; 8:45 am]

BILLING CODE 4910-60-P